DEPARTMENT OF TRANSPORTATION

Federal Aviation Administration

14 CFR Part 97

[Docket No. 30043; Amdt. No. 1992]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South McArthur Blvd. Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on May 12, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * effective upon publication.

FDC date | State | City | Airport | FDC number | SIAP
04/25/00 | CA | Burbank | Burbank-Glendale-Pasadena | FDC 0/4208 | LOC RWY 8 AMDT 2A This corrects TL00-11.
4/25/00 | CA | Burbank | Burbank-Glendale-Pasadena | FDC 0/4209 | ILS RWY 8 AMDT 35A This corrects TL00-11.
04/26/00 | GA | Marietta | Cobb County-Mc Collum Field | FDC 0/4266 | GPS RWY 9 ORIG-A.
04/26/00 | GA | Marietta | Cobb County-Mc Collum Field | FDC 0/4268 | VOR/DME RWY 9 ORIG-D.
04/26/00 | GA | Marietta | Cobb County-Mc Collum Field | FDC 0/4278 | ILS RWY 27 ORIG-D.
04/27/00 | GA | Marietta | Cobb County-Mc Collum Field | FDC 0/4324 | GPS RWY 27 ORIG-B.
04/27/00 | IL | Moline | Quad City | FDC 0/4367 | NDB OR GPS RWY 9, AMDT 27B.
04/27/00 | MA | Bedford | Laurence G. Hanscon Field | FDC 0/4355 | VOR RWY 23 AMDT 8C.
04/27/00 | MI | Bellaire | Antrim County | FDC 0/4334 | GPS RWY 2 ORIG-A.
04/27/00 | MO | Kansas City | Kansas City Intl | FDC 0/4361 | NDB RWY 9, AMDT 8.
04/27/00 | NC | North Wilkesboro | Wilkes County | FDC 0/4315 | NDB RWY 1, AMDT 2A.
04/27/00 | NC | North Wilkesboro | Wilkes County | FDC 0/4316 | ILS RWY 1, ORIG-A.
04/27/00 | NE | Grand Island | Central Nebraska Regional | FDC 0/4365 | ILS RWY 35, AMDT 9A.
04/27/00 | OH | Akron | Akron-Canton Regional | FDC 0/4339 | VOR OR GPS RWY 23 AMDT 9.
04/27/00 | OH | Columbus | Port Columbus Intl | FDC 0/4352 | NDB OR GPS RWY 10L, AMDT 8.
04/27/00 | OH | Springfield | Springfield-Beckly Muni | FDC 0/4335 | VOR OR GPS RWY 6 AMDT 10A.
04/27/00 | OH | Springfield | Springfield-Beckley Muni | FDC 0/4336 | VOR RWY 24 AMDT 10.
04/27/00 | OR | John Day | Grant Co. Rgnl/Ogilvie Field | FDC 0/4359 | GPS RWY 9, ORIG.
04/27/00 | SD | Aberdeen | Aberdeen Regional | FDC 0/4337 | VOR/DME OR GPS RWY 13 AMDT 12.
04/27/00 | SD | Pierre | Pierre Regional | FDC 0/4340 | VOR/DME OR TACAN OR GPS RWY 25 AMDT 16.
04/27/00 | WI | Appleton | Outagamie County Regional | FDC 0/4345 | VOR/DME RWY 3 AMDT 8B.
04/27/00 | WI | Appleton | Outagamie County Regional | FDC 0/4346 | LOC BC RWY 11 AMDT 1A.
04/27/00 | WI | Rhinelander | Rhinelander-Onieda | FDC 0/4341 | VOR/DME OR GPS RWY 27 ORIG-C.
04/28/00 | DE | Georgetown | Sussex County | FDC 0/4421 | RNAV RWY 4, ORIG-A.
04/28/00 | DE | Georgetown | Sussex County | FDC 0/4422 | RNAV RWY 22, ORIG-A.
04/28/00 | IL | Macomb | Macomb Muni | FDC 0/4386 | LOC RWY 27, AMDT 2A.
04/28/00 | MD | Ocean City | Ocean City Muni | FDC 0/4405 | RNAV RWY 14, ORIG-A.
04/28/00 | MO | Kansas City | Kansas City Intl | FDC 0/4402 | VOR/DME OR TACAN RWY 1L, ORIG.
04/28/00 | MO | Kansas City | Kansas City Intl | FDC 0/4403 | VOR/DME OR TACAN RWY 19R, ORIG.
04/28/00 | NY | Farmingdale | Republic | FDC 0/4395 | ILS RWY 14, AMDT 7A.
04/28/00 | SD | Aberdeen | Aberdeen Regional | FDC 0/4388 | VOR OR GPS RWY 31, AMDT 20.
04/28/00 | UT | Salt Lake City | Salt Lake City Intl | FDC 0/4408 | ILS RWY 34R (CAT I,II,III), ORIG.
04/28/00 | UT | Salt Lake City | Salt Lake City Intl | FDC 0/4411 | GPS RWY 16L, ORIG.
04/28/00 | UT | Salt Lake City | Salt Lake City Intl | FDC 0/4412 | GPS RWY 17, ORIG.
04/28/00 | UT | Salt Lake City | Salt lake City Intl | FDC 0/4414 | ILS/DME RWY 16R (CAT I, II, III), AMDT 3.
04/28/00 | UT | Salt Lake City | Salt Lake City Intl | FDC 04/4416 | VOR/DME OR TACAN OR GPS RWY 34R, AMDT 7.
04/28/00 | UT | Salt Lake City | Salt Lake City Intl | FDC 0/4420 | ILS/DME RWY 34L, AMDT 1.
05/01/00 | FL | West Palm Beach | North Palm Beach County General Aviation | FDC 0/4476 | VOR RWY 85 AMDT 1.
05/01/00 | IA | Marshalltown | Marshalltown Muni | FDC 0/4499 | GPS RWY 12, ORIG-A.
05/01/00 | KS | Garden City | Garden City Regional | FDC 0/4495 | VOR/DME OR GPS RWY 35, AMDT 1.
05/01/00 | KS | Garden City | Garden City Regional | FDC 0/4496 | VOR/DME OR GPS RWY 30, ORIG.
05/01/00 | KS | Goodland | Renner Field (Goodland Muni) | FDC 0/4493 | VOR/DME RWY 30, AMDT 6.
05/01/00 | KS | Hays | Hays Regional | FDC 0/4494 | VOR/DME RWY 34, AMDT 2A.
05/01/00 | KS | Hays | Hays Regional | FDC 0/4501 | LOC RWY 34, AMDT 2A.
05/01/00 | KS | Ottawa | Ottawa Muni | FDC 0/4474 | GPS RWY 17, ORIG.
05/01/00 | MO | Jefferson City | Jefferson City Memorial | FDC 0/4497 | LOC BC RWY 12, AMDT 6C.
05/01/00 | MO | Jefferson City | Jefferson City Memorial | FDC 0/4498 | NDB RWY 12, AMDT 2A.
05/01/00 | MO | Kansas City | Kansas City Intl | FDC 0/4500 | NDB OR GPS RWY 1L, AMDT 15.
05/01/00 | ND | Jamestown | Jamestown Muni | FDC 0/4490 | LOC/DME BC RWY 13, AMDT 7C.
05/01/00 | NE | Grand Island | Central Nebraska Regional | FDC 0/4472 | LOC/DME BC RWY 17, AMDT 9A.
05/01/00 | NE | Omaha | Eppley Airfield | FDC 0/4491 | VOR RWY 32L, AMDT 10A.
05/01/00 | SD | Rapid City | Rapid City Regional | FDC 0/4489 | VOR OR TACAN OR GPS RWY 14, ORIG.
05/01/00 | SD | Watertown | Watertown Muni | FDC 0/4487 | VOR OR TACAN OR GPS RWY 17, AMDT 16.
05/01/00 |  | Watertown | Watertown Muni | FDC 0/4488 | VOR/DME OR TACAN RWY 35, AMDT 11.
05/01/00 | SD | Williston | Sloulin Field Intl | FDC 0/4492 | VOR/DME OR GPS RWY 29, AMDT 3A.
05/01/00 | UT | Salt Lake City | Salt Lake City Intl | FDC 0/4477 | ILS/DME RWY 16L (CAT I, II, III), AMDT 12.
05/02/00 | CA | Monterey | Monterey Peninsula | FDC 0/4543 | ILS RWY 10R AMDT 26.
05/03/00 | ID | Boise | Boise Air Terminal (Gowen Field) | FDC 0/4599 | GPS RWY 28L, AMDT 1A.
05/03/00 | MA | Nantucket | Nantucket Memorial | FDC 0/4598 | LOC BC RWY 6 AMDT 10.
05/03/00 | MID | Sand Island | Henderson Field | FDC 0/4564 | AY ATOLL, MQ. GPS RWY 6 ORIG.
05/03/00 | WY | Guernesey | Camp Guernsey | FDC 0/4567 | NDB RWY 32, ORIG.
05/04/00 | GA | Mc Rae | Telfair-Wheeler | FDC 0/4638 | NDB OR GPS RWY 20 AMDT 8.
05/04/00 | KS | Garden City | Garden City Regional | FDC 0/4633 | NDB RWY 35, ORIG.
05/04/00 | KS | Garden City | Garden City Regional | FDC 0/4637 | VOR/DME RWY 17, AMDT.
05/04/00 | MI | Detroit | Detroit Metropolitan Wayne County | FDC 0/4689 | ILS RWY 3R (CAT I, II, III), AMDT 13.
05/04/00 | MO | Fort Leonard Wood | Waynesville Regional Arpt at Forney Field | FDC 0/4639 | LOC RWY 14, ORIG.
05/04/00 | MO | Fort Leonard Wood | Waynesville Regional Arpt at Forney Field | FDC 0/4640 | NDB/DME RWY 14 AMDT 1.
05/04/00 | MO | Fort Leonard Wood | Waynesville Regional Arpt at Forney Field | FDC 0/4641 | VOR RWY 32, ORIG.
05/04/00 | MO | Fort Leonard Wood | Waynesville Regional Arpt at Forney Field | FDC 0/4642 | NDB RWY 32, ORIG.
05/04/00 | MO | Fort Leonard Wood | Waynesville Regional Arpt at Forney Field | FDC 0/4649 | GPS RWY 14, ORIG.
05/04/00 | TX | Houston | George Bush Intercontinental Airport/Houston | FDC 0/4631 | GPS RWY 8, ORIG. This Replaces FDC 0/4261.
05/04/00 | TX | Houston | George Bush Intercontinental Airport/Houston | FDC 0/4632 | ILS RWY 8, AMDT 18G. This Replaces FDC 0/4292.
05/05/00 | ID | Driggs | Driggs-Reed Memorial | FDC 0/4702 | GPS-A, ORIG-A.
05/05/00 | IN | Evansville | Evansville Regional | FDC 0/4678 | NDB OR GPS RWY 22, AMDT 12.
05/05/00 | MO | Fort Leonard Wood | Waynesville Regional Arpt at Forney Field | FDC 0/4721 | GPS RWY 32, ORIG.
05/05/00 | OH | Middletown | Hook Field Muni | FDC 0/4746 | LOC RWY 23, AMDT 7D.
05/08/00 | IN | Evansville | Evansville Regional | FDC 0/4786 | VOR OR GPS RWY 4, AMDT 5.
05/09/00 | GUA | Agana | Guam Intl | FDC 0/4825 | GPS RWY 24R ORIG.
05/09/00 | IL | Freeport | Albertus | FDC 0/4819 | NDB RWY 6, ORIG-A.
05/09/00 | IL | Freeport | Albertus | FDC 0/4820 | LOC RWY 24, ORIG-A.
05/09/00 | IL | Freeport | Albertus | FDC 0/4821 | VOR OR GPS RWY 24, AMDT 6A.
05/09/00 | MO | Fredericktown | Fredericktown Regional | FDC 0/4809 | RNAV RWY 19, ORIG. This replaces FDC 0/4021.
05/09/00 | MO | Fredericktown | Fredericktown Regional | FDC 0/4810 | RNAV RWY 1, ORIG. This replaces FDC 0/4054.
05/09/00 | MO | Marshall | Marshall Memorial Muni | FDC 0/4833 | RNAV RWY 36, ORIG-A.
05/09/00 | MO | Marshall | Marshall Memorial Muni | FDC 0/4834 | RNAV RWY 18, ORIG-A.
05/09/00 | WI | Madison | Dane County Regional-Truax Field | FDC 0/4827 | ILS RWY 18, AMDT 7B
05/10/00 | CA | Burbank | Burbank-Glendale-Pasadena | FDC 0/4849 | NDB RWY 8 AMDT 2A. This replaces FDC 0/4211 IN TL00-11

[FR Doc. 00-12560 Filed 5-17-00; 8:45 am]

BILLING CODE 4910-13-M